DEPARTMENT OF JUSTICE

Notice of Lodging of Proposed Consent Decree Under the Clean Water Act

On December 4, 2018, the Department of Justice lodged a proposed consent decree with the United States District Court for the Northern District of New York in the lawsuit entitled United States of America v. Grimmel Industries, LLC, et al., Civil Action No. 1:16-cv-1103 (NAM/CFH).

The United States filed the complaint in this Clean Water Act case against the Defendants on September 9, 2016. The complaint alleged that the Defendants, Grimmel Industries, LLC, Rensselaer Iron & Steel, Inc., and Toby Grimmel, violated the Multi-Sector General Permits issued by the New York Department of Environmental Conservation concurrently under Section 402(b) of the Clean Water Act, 42 U.S.C. 1342(b). The Complaint sought civil penalties and injunctive relief for eleven alleged violations of the permits, including effluent discharges in excess of permitted limits; failure to comply with corrective action requirements; inadequate permit coverage and stormwater pollution prevention plans; improper implementation of stormwater pollution prevention plans; failure to conduct quarterly visual monitoring; failure to timely submit reports; failure to perform annual dry weather flow monitoring; inadequate responses to benchmark exceedances; failure to train employees; failure to maintain records; and failure to properly collect samples.

Under the Proposed Consent Decree, the United States will dismiss Defendant Toby Grimmel. The remaining Defendants must revise their stormwater management plans and investigate several drainage features at the facility. The remaining Defendants must also eliminate stormwater discharges from a catch basin under a material storage pile; remove scrap metal and other waste material accumulated under a pier at the facility; and install a berm on part of the site. The remaining Defendants must pay $100,000 in civil penalties. The proposed consent decree will resolve all Clean Water Act claims alleged in this action by the United States against Defendants.

The publication of this notice opens a period for public comment on the proposed consent decree. Comments should be addressed to the Assistant Attorney General, Environment and Natural Resources Division, Environmental Enforcement Section, and should refer to United States v. Grimmel Industries, LLC, et al., D.J. Ref. No. 90-5-1-1-11209/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $9.00 (25 cents per page reproduction cost) payable to the United States Treasury.

Robert Maher,
Assistant Section Chief, Environmental Enforcement Section, Environment and Natural Resources Division.

[FR Doc. 2018-27013 Filed 12-12-18; 8:45 am]

BILLING CODE 4410-15-P